DEPARTMENT OF TRANSPORTATION

Federal Motor Carrier Safety Administration

[Docket No. FMCSA-2022-0075]

Parts and Accessories Necessary for Safe Operation; Application for an Exemption From Daimler Coaches North America, LLC

AGENCY: Federal Motor Carrier Safety Administration (FMCSA), DOT.

ACTION: Notice of application for exemption; request for comments.

SUMMARY: FMCSA requests public comment on an application for exemption from Daimler Coaches North America, LLC to allow its driver assistance camera technology to be mounted higher in the lower area of the windshield on commercial motor vehicles than is currently permitted.

DATES: Comments must be received on or before September 6, 2022.

ADDRESSES: You may submit comments identified by Federal Docket Management System Number FMCSA-2022-0075 by any of the following methods:

• Federal eRulemaking Portal: www.regulations.gov. See the Public Participation and Request for Comments section below for further information.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE., between 9 a.m. and 5 p.m. E.T., Monday through Friday, except Federal holidays.

• Fax: 1-202-493-2251.

Each submission must include the Agency name and the docket number (FMCSA-2022-0075) for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Mr. José R. Cestero, Vehicle and Roadside Operations Division, Office of Carrier, Driver, and Vehicle Safety, MC-PSV, (202) 366-5541 or jose.cestero@dot.gov, Federal Motor Carrier Safety Administration, 1200 New Jersey Avenue SE, Washington, DC 20590-0001. If you have questions on viewing or submitting material to the docket, call Dockets Operations at (202) 366-9826.

SUPPLEMENTARY INFORMATION:

I. Public Participation and Request for Comments

FMCSA encourages you to participate by submitting comments and related materials.

Submitting Comments

If you submit a comment, please include the docket number for this notice (FMCSA-2022-0075), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2022-0075” in the “Keyword” box, and click “Search.” When the new screen appears, click on “Comment Now!” button and type your comment into the text box in the following screen. Choose whether you are submitting your comment as an individual or on behalf of a third party and then submit. If you submit your comments by mail or hand delivery, submit them in an unbound format, no larger than 81/2 by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31315(b) to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Background

Current Regulatory Requirements

49 CFR 393.60(e)(1)(ii) currently requires devices meeting the definition of “vehicle safety technology,” including Daimler Coaches North America, LLC's (DCNA) driver assistance camera technology device, to be mounted (1) not more than 4 inches below the upper edge of the area swept by the windshield wipers, or (2) not more than 7 inches above the lower edge of the area swept by the windshield wipers, and outside the driver's sight lines to the road and highway signs and signals. On March 7, 2022, FMCSA issued a final rule that goes into effect on May 6, 2022 (87 FR 12596). The new rule expands the mounting location of devices that meet the definition of “vehicle safety technology” and allows them to be mounted:

(A) Not more than 216 mm (8.5 inches) below the upper edge of the area swept by the windshield wipers;

(B) Not more than 175 mm (7 inches) above the lower edge of the area swept by the windshield wipers; and

(C) Outside the driver's sight lines to the road and highway signs and signals.

The revised rule only increases the upper edge area swept by the windshield wipers and does not change the lower edge area.

Applicant's Request

DCNA has applied for an exemption from 49 CFR 393.60(e)(1) to allow its driver assistance camera technology device to be mounted higher in the lower area of the windshield than is currently permitted. A copy of the application is included in the docket referenced at the beginning of this notice.

Equivalent Level of Safety

In its application, DCNA states that the functionality of its driver assistance camera technology includes the ability to manage the Lane Departure Warning System (LDWS), Adaptive Cruise Control (ACC), Active Brake Assist 5 (ABA5) which is the minimum standard safety system and integral to the Electronic Stability Program (ESP). ABA5 uses both existing radar and the new camera technology for both pedestrian and vehicle recognition, commonly referred to as a “forward collision mitigation system.”

The technology housing is approximately 187 mm (7.36 inches) tall by 277 mm (10.9 inches) wide and will be mounted in the approximate lower center of the windshield with the bottom edge of the housing approximately 240 mm (about 9.44 inches) above the lower edge of the area swept by the windshield wipers. The technology will be mounted outside the driver's normal sight lines to the road ahead, signs, signals, and mirrors. This location will allow for optimal functionality of the safety features supported by DCNA's driver assistance camera technology. The location of the technology—within the sweep of the left side windshield wiper—also ensures the safe operation of the system in inclement weather, where the sensors field of view can be wiped 'clean', as required, by normal use of the windshield wiper system.

DCNA believes that mounting the driver assistance camera technology system as described will maintain a level of safety that is equivalent to, or greater than, the level of safety achieved without the exemption.

IV. Request for Comments

In accordance with 49 U.S.C. 31315(b)(6), FMCSA requests public comment from all interested persons on DCNA's application for an exemption. All comments received before the close of business on the comment closing date indicated at the beginning of this notice will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2022-16868 Filed 8-4-22; 8:45 am]

BILLING CODE 4910-EX-P